ENVIRONMENTAL PROTECTION AGENCY

[EPA-HQ-OAR-2016-0094-1138; FRL-9952-38-OAR]

Agency Information Collection Activities; Proposed Collection; Comment Request; Information Collection for Importation of On-Highway Vehicles and Motorcycles and Nonroad Engines, Vehicles, and Equipment; EPA ICR Number 2583.01, OMB Control Number 2060—NEW

AGENCY: Environmental Protection Agency (EPA).

ACTION: Notice.

SUMMARY: In compliance with the Paperwork Reduction Act (PRA) (44 U.S.C. 3501 et seq.), this document announces that EPA is planning to submit an Information Collection Request (ICR) for the information requirements for importation of on-highway vehicles and motorcycles and nonroad engines, vehicles, and equipment to the Office of Management and Budget (OMB). This new ICR is the consolidation of two individual ICRS that are currently approved by OMB. EPA currently has an approved collection that covers the information requirements for importation of on-highway vehicles which expires on October 31, 2016 (OMB Control Number 2060-0095, ICR Number 0010.14). EPA also has an approved collection for information requirements for importation of nonroad engines and recreational vehicles (OMB Control Number 2060-0320, ICR Number 1723.07), which expires February 28, 2017. Before submitting this new ICR to OMB for review and approval, EPA is soliciting comments on the proposed information collection as described below.

DATES: Comments must be submitted on or before November 15, 2016.

ADDRESSES: Submit your comments referencing Docket ID No. EPA-HQ-OAR-2016-0094 online using www.regulations.gov (our preferred method), by email to pugliese.holly@epa.gov or by mail to: EPA Docket Center, Environmental Protection Agency, Mailcode 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Holly Pugliese, Compliance Division, Office of Transportation and Air Quality, Environmental Protection Agency, 2000 Traverwood, Ann Arbor, Michigan, 48105; telephone number: 734-214-4288; fax number: 734-214-4869; email address: pugliese.holly@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This ICR will consolidate two separate ICRs that currently individually cover EPA Declaration Forms 3520-1, 3520-21, and 3520-8. EPA Declaration Form 3520-1 is used by importers of on-highway vehicles and motorcycles and EPA Declaration Form 3520-21 is used by importers of nonroad vehicles, engines and equipment to help facilitate importation of products at U.S. Borders. Each form identifies the regulated category of engine or vehicle and the regulatory provisions under which the importation is taking place. In addition, this ICR covers the burden of EPA Form 3520-8 which is used to request final importation clearance for Independent Commercial Importers (ICIs) of on-highway vehicles who are required to bring the on-highway vehicles into compliance and provide test results. This form is currently covered by OMB 2060-0095. EPA is consolidating these two ICRS due to the effort being undertaken by the U.S. Customs and Border Protection to require electronic filing for all importers. Over the last several years, CBP has been developing the Automated Commercial Environment (ACE) for electronic filing. By the end of 2016, ACE will become the primary system the trade community and other importers will use to report imports and exports. Through ACE as the single window, manual processes will be streamlined and automated, and paper submissions (e.g. fillable PDFs) will essentially be eliminated. However, EPA will continue to maintain the forms on our Web site in fillable PDF format.

EPA does not collect the forms, but rather makes them available to importers and CBP to facilitate entry of goods at the port. EPA may ask for them upon request to assist CPB and/or EPA enforcement personnel for any given import for which there are questions or issues. The forms are primarily used by CBP at the time of importation to assist CBP in making determination if entry should be allowed. CBP regulations require that the forms be submitted as applicable at the time of entry; see 19 CFR 12.73 and 12.74.

Form Numbers: 3520-1, 3520-21, 3520-8.

Frequency of response: Once per entry. (One form per shipment may be used.)

Respondents/affected entities: Information collected is from individual importers, or companies who import and/or manufacture on-highway vehicles and nonroad engines, vehicles, and equipment.

Respondent's obligation to respond: Required for any importer to legally import nonroad vehicles or engines into the U.S.

Estimated number of respondents: 14,810.

Total estimated burden: 13,985 hours (per year). Burden is defined at 5 CFR 1320.03(b).

Total estimated cost: $513,633 (per year), includes $48,064 annualized capital or operation & maintenance costs.

Changes in Estimates: EPA is establishing new burden estimates as we combine the burden estimates for the two separate ICRs that currently cover the forms.

Dated: September 8, 2016.
Byron J. Bunker,
Director, Compliance Division, Office of Transportation and Air Quality.

[FR Doc. 2016-22219 Filed 9-15-16; 8:45 am]

BILLING CODE 6560-50-P